Proclamation 8139 of May 1, 2007

Older Americans Month, 2007

By the President of the United States of America

A Proclamation

During Older Americans Month, we pay tribute to our senior citizens for the many ways they strengthen our Nation. Our country is blessed by their compassionate acts, the wisdom of their experiences, and the patriotism they demonstrate.

This year's theme, “Older Americans: Making Choices for a Healthier Future,” underscores the importance of making informed decisions regarding lifestyle and personal health. The President's Council on Physical Fitness and Sports encourages seniors to engage in physical activity through a program called the President's Challenge. By recognizing the importance of staying active, in conjunction with nutritious eating and proper medical care, older Americans can improve heart health, slow bone loss, and lengthen lives. By making an effort to enhance their quality of life, older Americans inspire younger generations to appreciate the benefits of a healthy lifestyle.

My Administration is working to modernize the Medicare system and provide better prescription drug coverage and health care so seniors have more choices and improved care. This year, I proposed a standard tax deduction for those who purchase private health insurance. The Medicare Prescription Drug, Improvement, and Modernization Act of 2003 and the Medicare Prescription Drug Benefit, Medicare Part D, help seniors receive the medical services and the prescription drugs they need at more affordable prices.

This month, we honor older Americans for demonstrating the spirit of our Nation through their positive attitude, strong work ethic, and personal character. America will always be grateful for the legacy of responsibility and service they are leaving to future generations.

NOW, THEREFORE, I, GEORGE W. BUSH, President of the United States of America, by virtue of the authority vested in me by the Constitution and laws of the United States, do hereby proclaim May 2007 as Older Americans Month. I commend older Americans for the many contributions they make to our Nation. I also commend the Federal, State, local, and tribal organizations, service and health care providers, caregivers, and volunteers who dedicate their time and talents to our seniors. I encourage all citizens to honor their elders, care for those in need, and reaffirm our country's commitment to older Americans this month and throughout the year.

IN WITNESS WHEREOF, I have hereunto set my hand this first day of May, in the year of our Lord two thousand seven, and of the Independence of the United States of America the two hundred and thirty-first.

[FR Doc. 07-2220

Filed 5-2-07; 8:54 am]

Billing code 3195-01-P